DEPARTMENT OF THE INTERIOR

Bureau of Land Management

[WO-310-1310-PB-24 1A]

Extension of Approved Information Collection, OMB Control Number 1004-0132

AGENCY: Bureau of Land Management, Interior.

ACTION: Notice and request for comments.

SUMMARY: In accordance with the Paperwork Reduction Act of 1995, the Bureau of Land Management (BLM) requests the Office of Management and Budget (OMB) to extend an existing approval to collect certain information from entities interested in the development of geothermal resources. BLM uses Form 3260-2, Geothermal Drilling Permit; Form 3260-3, Geothermal Sundry Notice; Form 3260-4, Geothermal Well Completion Report; Form 3260-5, Monthly Report of Geothermal Operations; to collect this information under 43 CFR part 3200. This information allows BLM to approve proposed operations and to ensure compliance with terms and conditions of approved operations. We also collect non-form information to determine if a lessee is making diligent and bona fide efforts to utilize and produce geothermal resources.

DATES: You must submit comments to BLM at the address below on or before August 21, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN: 1004-0132” and your name and return address in your Internet message.

You may deliver comments to the Bureau of Land Management, Administrative Record, Room 401, 1620 L Street, NW., Washington, DC.

All comments will be available for public review at the L Street address during regular business hours (7:45 a.m. to 4;15 p.m.), Monday through Friday.

FOR FURTHER INFORMATION CONTACT: You may contact Barbara Gamble, Division of Fluids Minerals, (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires BLM to provide a 60-day notice in the Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Geothermal Steam Act of 1970 (30 U.S.C. 1001 et seq.) authorizes the Secretary of the Interior to issue leases so that geothermal resources may be developed and used. The BLM allows geothermal leasing operations on Tribal lands under the authority of the Indian Mineral Development Act (25 U.S.C. 2101-2108). The BLM supervises operations of the leases granted under this authority by the regulations in 43 CFR subpart 3260. The regulations contain information collection requirements that we need to grant the lessees permits to perform specific operations and to report the completion and progress of such work. Specifically, the regulations require operators to submit the Geothermal Drilling Permit (form 3260-2); Geothermal Sundry Notice (Form 3260-3); Geothermal Well Completion Report (Form 3260-4); and Monthly Report of Geothermal Operations (Form 3260-5).

The information the lessee of record, a designated operator, or an approved agent acting on behalf of the lessee or operator provides, allows BLM to conduct or modify operations under the terms and conditions of a Federal geothermal lease or an Indian geothermal contract. The information enables BLM to approve both geothermal explorations and modifications to existing wells. Without this information, BLM could not adequately evaluate activity and performance of non-abandoned wells and production facilities for individual leases. This includes drilling and other well operations and engineering data for individual well production and injection. The lessee also reports any environmental monitoring conducted.

The lessee may request a lease extension beyond the primary term by drilling, diligent efforts, production of byproducts, and unit commitment. We use the non-form information to determine if a lessee qualifies to extend its geothermal lease. The lessee submits the following non-form reports under 43 CFR subpart 3208:

(1) Diligent Efforts Report;

(2) Bona Fide Efforts Report; and

(3) Significant Expenditures Report.

Based on our experience administering the activities, we estimate it takes from 1 to 10 hours per response to complete the required information, depending on which form or report the respondent submits. Respondents are lessees and operators of Federal geothermal leases and Indian geothermal contracts subject to BLM oversight. We estimate 835 responses per year and a total annual burden of 1,850 hours.

BLM will summarize all responses to this notice and include them in the request for OMB approval. All comments will become a matter of public record.

Dated: June 15, 2006.
Ted R. Hudson,
Bureau of Land Management, Information Collection Clearance Officer.

[FR Doc. 06-5555 Filed 6-20-06; 8:45 am]

BILLING CODE 4310-84-M